DEPARTMENT OF HOMELAND SECURITY

Coast Guard

33 CFR Part 165

[Docket No. USCG-2024-0556]

Safety Zones; Annual Fireworks Displays Within the Puget Sound

AGENCY: Coast Guard, DHS.

ACTION: Notification of enforcement of regulation.

SUMMARY: The Coast Guard will enforce 13 safety zones for annual firework displays in the Captain of the Port, Sector Puget Sound area of responsibility to provide for the safety of life on navigable waterways during these events. Our regulation for marine events within the Thirteenth Coast Guard District identifies the regulated area for these events. During the enforcement periods, the operator of any vessel in the regulated area must comply with directions form the Patrol Commander or any Official Patrol displaying a Coast Guard ensign.

DATES: The regulations in 33 CFR 165.1332 will be enforced for the 13 safety zones identified in the SUPPLEMENTARY INFORMATION section for the dates and times specified.

FOR FURTHER INFORMATION CONTACT: If you have questions about this notification of enforcement, call or email LTJG Kaylee Lord at 206-217-6045, or email Sector Puget Sound Waterways Management at SectorPugetSoundWWM@uscg.mil.

SUPPLEMENTARY INFORMATION: The Coast Guard will enforce regulations in 33 CFR 165.1332 for the following safety zones established for Annual Fireworks Displays within the Captain of the Port, Puget Sound Area of Responsibility. These regulations will be enforced from 5 p.m. through 1 a.m., daily, on July 3, 2024 through July 4, 2024, at the following locations:

Event name (typically) | Event location | Latitude | Longitude
Deer Harbor Annual Fireworks Display | Deer Harbor | 48°37.0′ N | 123°00.25′ W
Boston Harbor 4th of July | Boston Harbor | 47°08.626′ N | 122°54.149′ W
Alderbrook Resort & Spa Fireworks | Hood Canal | 47°21.033′ N | 123°04.1′ W
Chase Family Fourth at Lake Union (currently named Seafair Summer Fourth Fireworks) | Lake Union | 47°38.418′ N | 122°20.111′ W
Tacoma Freedom Fair | Commencement Bay | 47°17.103′ N | 122°28.410′ W
City of Anacortes | Fidalgo Bay | 48°30.016′ N | 122°36.154′ W
Steilacoom Annual Fireworks | Steilacoom | 47°10.4′ N | 122°36.2′ W
Brewster Fire Department Fireworks | Brewster | 48°05.362′ N | 119°47.147′ W
Kingston Fireworks | Appletree Cove | 47°47.65′ N | 122°29.917′ W
Fireworks Display | Henderson Bay | 47°21.8′ N | 122°38.367′ W
Bainbridge Island Fireworks | Eagle Harbor | 47°37.142′ N | 122°30.397′ W
Vashon Island Fireworks | Quartermaster Harbor | 47°24.0′ N | 122°27.0′ W
Blast Over Bellingham | Bellingham Bay | 48°44.933′ N | 122°29.667′ W

The special requirements listed in 33 CFR 165.1332(b) apply to the activation and enforcement of these safety zones. All non-participants are prohibited from entering, transiting through, anchoring in, or remaining within the regulated area unless authorized by the Captain of the Port or their designated representative. The Coast Guard may be assisted by other Federal, State, or local law enforcement agencies in enforcing this regulation.

The Coast Guard will issue advanced notification of enforcement of these safety zones via Broadcast Notice to Mariners and Local Notice to Mariners.

Dated: June 21, 2024.
Mark A. McDonnell,
Captain, U.S. Coast Guard, Captain of the Port Sector Puget Sound.

[FR Doc. 2024-14138 Filed 6-26-24; 8:45 am]

BILLING CODE 9110-04-P